DEPARTMENT OF HEALTH AND HUMAN SERVICES

National Institutes of Health

National Institute of Environmental Health Sciences; Notice of Meeting

Pursuant to section 1009 of the Federal Advisory Committee Act, as amended, notice is hereby given of a meeting of the National Advisory Environmental Health Sciences Council.

This will be a hybrid meeting held in-person and virtually and will be open to the public as indicated below. Individuals who plan to attend in-person or view the virtual meeting and need special assistance or other reasonable accommodations, should notify the Contact Person listed below in advance of the meeting. The meeting can be accessed from the NIH Videocast at the following link: https://www.niehs.nih.gov/news/webcasts/index.cfm.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Environmental Health Sciences Council, National Advisory Environmental Health Sciences Council (NAEHSC).

Date: June 6-7, 2023.

Open: June 6, 2023, 10:00 a.m. to 3:00 p.m.

Agenda: Call to Order, Report of the Director, Hypothetical Interventions to Reduce Racial and Ethnic Disparities in Phthalate Exposure and the Impact on Preterm Birth, and CSR's Initiatives to Strengthen Peer Review.

Place: NIEHS/National Institutes of Health, 111 TW Alexander Drive, Research Triangle Park, NC 27709, (Hybrid Meeting).

Closed: June 6, 2023, 3:15 p.m. to 5:00 p.m.

Agenda: To review and evaluate grant applications and/or proposals.

Place: NIEHS/National Institutes of Health, 111 TW Alexander Drive, Research Triangle Park, NC 27709,

Open: June 7, 2023, 10:00 a.m. to 3:45 p.m.

Agenda: Invited Speakers, NIEHS REEP, and DEIA Council Workgroup.

Place: NIEHS/National Institutes of Health, 111 TW Alexander Drive, Research Triangle Park, NC 27709, (Hybrid Meeting).

Contact Person: David M. Balshaw, BA, Ph.D., Acting Director and Chief, Division of Extramural Research and Training, National Institute of Environmental, Health Sciences, P.O. Box 12233, MD EC-27, Research Triangle Park, NC 27709-2233, 984-287-3234, balshaw@niehs.nih.gov.

Any interested person may file written comments with the committee by forwarding the statement to the Contact Person listed on this notice. The statement should include the name, address, telephone number and when applicable, the business or professional affiliation of the interested person.

In the interest of security, NIH has stringent procedures for entrance into NIH federal property. Visitors will be asked to show one form of identification (for example, a government-issued photo ID, driver's license, or passport) and to state the purpose of their visit.

Information is also available on the Institute's home page: https://www.niehs.nih.gov/about/boards/naehsc/index.cfm, where an agenda and any additional information for the meeting will be posted when available.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: May 17, 2023.
Miguelina Perez,
Program Analyst, Office of Federal Advisory Committee Policy.

[FR Doc. 2023-10895 Filed 5-22-23; 8:45 am]

BILLING CODE 4140-01-P